SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: May 1-31, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22(f) for the time period specified above:

Approvals by Rule Issued Under 18 CFR 806.22(e)

1. Sunoco Pipeline, L.P.; Mariner East 2 Pipeline—Aughwick Creek; ABR-201905007; Shirley Township, Huntingdon County, Pa.; Consumptive Use of Up to 0.200 mgd; Approval Date: May 21, 2019.

2. Sunoco Pipeline, L.P.; Mariner East 2 Pipeline—Appalachian Trail and Norfolk Southern Railroad Crossing; ABR-201905008; Middlesex and Silver Spring Townships, Cumberland County, Pa.; Consumptive Use of Up to 0.144 mgd; Approval Date: May 22, 2019.

Water Source Approvals Issued Under 18 CFR 806.22(f)(13)

1. Chesapeake Appalachia, L.L.C.; Pad ID: Molly J 2; ABR-201905001; Monroe Township, Bradford County, Pa.; Consumptive Use of Up to 7.5000 mgd; Approval Date: May 6, 2019.

2. Beech Resources, LLC.; Pad ID: Premier Well Site; ABR-201905002; Lycoming Township, Lycoming County, Pa.; Consumptive Use of Up to 3.0000 mgd; Approval Date: May 6, 2019.

3. Seneca Resources Company, LLC; Pad ID: PHC 4H; ABR-20090501.R2; Lawrence Township, Clearfield County, Pa.; Consumptive Use of Up to 3.0000 mgd; Approval Date: May 7, 2019.

4. Seneca Resources Company, LLC; Pad ID: PHC 5H; ABR-20090502.R2; Lawrence Township, Clearfield County, Pa.; Consumptive Use of Up to 4.0000 mgd; Approval Date: May 7, 2019.

5. Seneca Resources Company, LLC; Pad ID: PHC 9H; ABR-20090503.R2; Lawrence Township, Clearfield County, Pa.; Consumptive Use of Up to 0.9990 mgd; Approval Date: May 7, 2019.

6. Seneca Resources Company, LLC; Pad ID: Wilcox Pad F; ABR-20090505.R2; Covington Township, Tioga County, Pa.; Consumptive Use of Up to 2.0000 mgd; Approval Date: May 13, 2019.

7. Repsol Oil & Gas USA, LLC; Pad ID: CEASE (01 005/008) R; ABR-20090506.R2; Troy Township, Bradford County, Pa.; Consumptive Use of Up to 6.0000 mgd; Approval Date: May 13, 2019.

8. Repsol Oil & Gas USA, LLC; Pad ID: SHEDDEN (01 026/027) R; ABR-20090507.R2; Troy Township, Bradford County, Pa.; Consumptive Use of Up to 6.0000 mgd; Approval Date: May 13, 2019.

9. Repsol Oil & Gas USA, LLC; Pad ID: HARRIS (01 004) M; ABR-20090508.R2; Armenia Township, Bradford County, Pa.; Consumptive Use of Up to 6.0000 mgd; Approval Date: May 13, 2019.

10. Repsol Oil & Gas USA, LLC; Pad ID: BENSE (01 025/070) B; ABR-20090509.R2; Troy Township, Bradford County, Pa.; Consumptive Use of Up to 6.0000 mgd; Approval Date: May 13, 2019.

11. Repsol Oil & Gas USA, LLC; Pad ID: PHINNEY (01 006) J; ABR-20090510.R2; Troy Township, Bradford County, Pa.; Consumptive Use of Up to 6.0000 mgd; Approval Date: May 13, 2019.

12. Chief Oil & Gas, LLC; Pad ID: Blanchard Drilling Pad; ABR-201405002.R1; McNett Township, Lycoming County, Pa.; Consumptive Use of Up to 2.5000 mgd; Approval Date: May 13, 2019.

13. Inflection Energy (PA), LLC; TLC Pad; ABR-201405004.R1; Eldred Township, Lycoming County, Pa.; Consumptive Use of Up to 4.0000 mgd; Approval Date: May 13, 2019.

14. Chief Oil & Gas, LLC; Pad ID: Harper Unit #1; ABR-20090515.R2; West Burlington Township, Bradford County, Pa.; Consumptive Use of Up to 5.0000 mgd; Approval Date: May 14, 2019.

15. Chief Oil & Gas, LLC; Pad ID: Jennings Unit #1H; ABR-20090516.R2; West Burlington Township, Bradford County, Pa.; Consumptive Use of Up to 5.0000 mgd; Approval Date: May 14, 2019.

16. Chief Oil & Gas, LLC; Pad ID: Black Unit #1H; ABR-20090517.R2; Burlington Township, Bradford County, Pa.; Consumptive Use of Up to 5.0000 mgd; Approval Date: May 14, 2019.

17. ARD Operating, LLC; Pad ID: Little Fawn Pad A; ABR-201905004; Cascade Township, Lycoming County, Pa.; Consumptive Use of Up to 4.0000 mgd; Approval Date: May 20, 2019.

18. ARD Operating, LLC; Pad ID: David C Duncan Pad B; ABR-201905005; Cascade Township, Lycoming County, Pa.; Consumptive Use of Up to 4.0000 mgd; Approval Date: May 20, 2019.

19. Chief Oil & Gas, LLC; Pad ID: Corbett Unit Pad; ABR-201905006; Overton Township, Bradford County, Pa.; Consumptive Use of Up to 2.5000 mgd; Approval Date: May 20, 2019.

20. BKV Operating, LLC; Pad ID: Cowfer—1; ABR-20090417.R2; Rush Township, Centre County, Pa.; Consumptive Use of Up to 0.9990 mgd; Approval Date: May 20, 2019.

21. Chesapeake Appalachia, L.L.C.; Pad ID: Ward; ABR-20090519.R2; West Burlington Township, Bradford County, Pa.; Consumptive Use of Up to 7.5000 mgd; Approval Date: May 20, 2019.

22. Chesapeake Appalachia, L.L.C.; Pad ID: Hannan; ABR-20090520.R2; Troy Township, Bradford County, Pa.; Consumptive Use of Up to 7.5000 mgd; Approval Date: May 20, 2019.

23. Chesapeake Appalachia, L.L.C.; Pad ID: Isbell; ABR-20090521.R2; Burlington Township, Bradford County, Pa.; Consumptive Use of Up to 7.5000 mgd; Approval Date: May 20, 2019.

24. Repsol Oil & Gas USA, LLC; Pad ID: KNIGHTS (01 044) L; ABR-20090522.R2; Troy Township, Bradford County, Pa.; Consumptive Use of Up to 6.0000 mgd; Approval Date: May 20, 2019.

25. Repsol Oil & Gas USA, LLC; Pad ID: HARRIS (01 012) A; ABR-20090523.R2; Armenia Township, Bradford County, Pa.; Consumptive Use of Up to 6.0000 mgd; Approval Date: May 20, 2019.

26. Repsol Oil & Gas USA, LLC; Pad ID: THOMAS (01 038) FT; ABR-20090524.R2; Troy Township, Bradford County, Pa.; Consumptive Use of Up to 6.0000 mgd; Approval Date: May 21, 2019.

27. Chesapeake Appalachia, L.L.C.; Pad ID: Otten; ABR-20090526.R2; Asylum Township, Bradford County, Pa.; Consumptive Use of Up to 7.5000 mgd; Approval Date: May 22, 2019.

28. Chesapeake Appalachia, L.L.C.; Pad ID: Mowry; ABR-20090527.R2; Tuscarora Township, Bradford County, Pa.; Consumptive Use of Up to 7.5000 mgd; Approval Date: May 22, 2019.

29. Chesapeake Appalachia, L.L.C.; Pad ID: May; ABR-20090528.R2; Granville Township, Bradford County, Pa.; Consumptive Use of Up to 7.5000 mgd; Approval Date: May 22, 2019.

30. Chesapeake Appalachia, L.L.C.; Pad ID: John Barrett; ABR-20090529.R2; Asylum Township, Bradford County, Pa.; Consumptive Use of Up to 7.5000 mgd; Approval Date: May 22, 2019.

31. Chesapeake Appalachia, L.L.C.; Pad ID: James Barrett; ABR-20090530.R2; Asylum Township, Bradford County, Pa.; Consumptive Use of Up to 7.5000 mgd; Approval Date: May 22, 2019.

32. Chesapeake Appalachia, L.L.C.; Pad ID: Chancellor; ABR-20090532.R2; Asylum Township, Bradford County, Pa.; Consumptive Use of Up to 7.5000 mgd; Approval Date: May 22, 2019.

33. Chesapeake Appalachia, L.L.C.; Pad ID: Clapper; ABR-20090533.R2; Auburn Township, Susquehanna County, Pa.; Consumptive Use of Up to 7.5000 mgd; Approval Date: May 22, 2019.

34. Chesapeake Appalachia, L.L.C.; Pad ID: Judd; ABR-20090534.R2; Monroe Township, Bradford County, Pa.; Consumptive Use of Up to 7.5000 mgd; Approval Date: May 22, 2019.

35. Chesapeake Appalachia, L.L.C.; Pad ID: VanNoy; ABR-20090535.R2; Granville Township, Bradford County, Pa.; Consumptive Use of Up to 7.5000 mgd; Approval Date: May 22, 2019.

36. SWEPI LP; Pad ID: Tice 653; ABR-201403002.R1; Richmond Township, Tioga County, Pa.; Consumptive Use of Up to 4.0000 mgd; Approval Date: May 28, 2019.

37. SWEPI LP; Pad ID: Shughart 534; ABR-201403003.R1; Richmond Township, Tioga County, Pa.; Consumptive Use of Up to 4.0000 mgd; Approval Date: May 28, 2019.

38. SWEPI LP; Pad ID: Shughart 490; ABR-201403004.R1; Richmond Township, Tioga County, Pa.; Consumptive Use of Up to 4.0000 mgd; Approval Date: May 28, 2019.

39. Chesapeake Appalachia, L.L.C.; Pad ID: Przybyszewski; ABR-20090555.R2; Auburn Township, Susquehanna County, Pa.; Consumptive Use of Up to 7.5000 mgd; Approval Date: May 29, 2019.

40. Chief Oil & Gas, LLC.; Pad ID: Harris #1H; ABR-20090556.R2; Burlington Township, Bradford County, Pa.; Consumptive Use of Up to 5.0000 mgd; Approval Date: May 29, 2019.

41. Cabot Oil & Gas Corporation; Pad ID: HawkJ P1; ABR-201403013.R1; Auburn Township, Susquehanna County, Pa.; Consumptive Use of Up to 5.0000 mgd; Approval Date: May 29, 2019.

42. Cabot Oil & Gas Corporation; Pad ID: GrasavageE P1; ABR-201403014.R1; Jessup Township, Susquehanna County, Pa.; Consumptive Use of Up to 5.0000 mgd; Approval Date: May 29, 2019.

43. Cabot Oil & Gas Corporation; Pad ID: SlocumS P1; ABR-201403015.R1; Jackson Township, Susquehanna County, Pa.; Consumptive Use of Up to 5.0000 mgd; Approval Date: May 29, 2019.

44. SWN Production Company, LLC; Pad ID: Powers Pad Site; ABR-20090511.R2; Forest Lake Township, Susquehanna County, Pa.; Consumptive Use of Up to 3.0000 mgd; Approval Date: May 31, 2019.

45. SWN Production Company, LLC; Pad ID: Lepley Pad—TI-04; ABR-201405006.R1; Liberty Township, Tioga County, Pa.; Consumptive Use of Up to 4.9990 mgd; Approval Date: May 31, 2019.

Authority: Pub. L. 91-575, 84 Stat. 1509 et seq., 18 CFR parts 806 and 808.

Dated: June 10, 2019.
Jason E. Oyler,
General Counsel and Secretary to the Commission.

[FR Doc. 2019-12512 Filed 6-12-19; 8:45 am]

BILLING CODE 7040-01-P